OFFICE OF THE UNITED STATES TRADE REPRESENTATIVE

List of Countries Denying Fair Market Opportunities for Government-Funded Airport Construction Projects

AGENCY: Office of the U.S. Trade Representative.

ACTION: Notice.

SUMMARY: The United States Trade Representative (USTR) has determined not to list any countries as denying fair market opportunities for U.S. products, suppliers, or bidders in foreign government-funded airport construction projects pursuant to section 533 of the Airport and Airway Improvement Act of 1982, as amended (49 U.S.C. 50104).

DATES: This notice is effective on April 3, 2017.

FOR FURTHER INFORMATION CONTACT: Scott Pietan, International Procurement Negotiator, (202) 395-9646, or Arthur Tsao, Assistant General Counsel, (202) 395-6987.

SUPPLEMENTARY INFORMATION: Section 533 of the Airport and Airway Improvement Act of 1982, as amended by section 115 of the Airport and Airway Safety and Capacity Expansion Act of 1987, Public Law 100-223, (codified at 49 U.S.C. 50104), requires the USTR to decide whether any foreign country has denied fair market opportunities to U.S. products, suppliers, or bidders in connection with airport construction projects of $500,000 or more that are funded in whole or in part by the government of such country. The USTR must publish the list of countries in the Federal Register. The Office of the U.S. Trade Representative has not received any complaints or other information indicating that a foreign country has denied U.S. products, suppliers, or bidders fair market opportunities in airport construction projects. Therefore, the USTR has decided not to list any countries as denying fair market opportunities for U.S. products, suppliers, or bidders in foreign government-funded airport construction projects.

Stephen Vaughn,
Acting United States Trade Representative, Office of the U.S. Trade Representative.

[FR Doc. 2017-06511 Filed 3-31-17; 8:45 am]

BILLING CODE 3290-F7-P